DEPARTMENT OF COMMERCE

National Oceanic and Atmospheric Administration

50 CFR 226

RIN 0648-BD27

Endangered and Threatened Species: Proposed Rule To Designate Critical Habitat for the Northwest Atlantic Ocean Loggerhead Sea Turtle Distinct Population Segment (DPS) and Proposed Determination Regarding Critical Habitat for the North Pacific Ocean Loggerhead DPS

AGENCY: National Marine Fisheries Service (NMFS), National Oceanic and Atmospheric Administration (NOAA), Commerce.

ACTION: Proposed rule; reopening of comment period.

SUMMARY: NMFS is reopening the comment period for its Proposed Rule to Designate Critical Habitat for the Northwest Atlantic Ocean Loggerhead Sea Turtle Distinct Population Segment (DPS) and Proposed Determination Regarding Critical Habitat for the North Pacific Ocean Loggerhead DPS. The comment period is being reopened to provide additional opportunity for public comment.

DATES: The comment period for the proposed rule published on July 18, 2013 (78 FR 43005) is reopened. Comments and information on this document, identified by NOAA-NMFS-2013-0079, must be received by November 29, 2013. Requests for public hearings must be made in writing (see ADDRESSES) by November 14, 2013.

ADDRESSES: You may submit comments on this document, identified by NOAA-NMFS-2013-0079, by any of the following methods:

• Electronic Submission: Submit all electronic public comments via the Federal e-Rulemaking Portal. Go to www.regulations.gov/#!docketDetail;D=NOAA-NMFS-2013-0079, click the “Comment Now!” icon, complete the required fields, and enter or attach our comments.

• Mail: Submit written comments to Susan Pultz, NMFS, Office of Protected Resources, 1315 East West Highway, Silver Spring, MD 20910.

• Fax: 301-713-0376; Attn: Susan Pultz.

Instructions: Comments sent by any other method, to any other address or individual, or received after the end of the comment period, may not be considered by NMFS. All comments received will be part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

The proposed rule, list of references and supporting documents, including the biological report, the draft Economic Analysis and the Initial Regulatory Flexibility Act (IRFA) analysis which is appended to the draft Economic Analysis, are also available electronically at http://www.nmfs.noaa.gov/pr/species/turtles/loggerhead.htm.

FOR FURTHER INFORMATION CONTACT: Susan Pultz, NMFS, Office of Protected Resources 301-427-8472 or susan.pultz@noaa.gov; or Angela Somma, NMFS, Office of Protected Resources 301-427-8474 or angela.somma@noaa.gov.

SUPPLEMENTARY INFORMATION:

Reopening of Comment Period

The comment period will be reopened through November 29, 2013.

Background

On July 18, 2013, we (NMFS) published in the Federal Register a proposed rule to designate critical habitat for the Northwest Atlantic Ocean loggerhead sea turtle Distinct Population Segment (DPS) (Caretta caretta) within the Atlantic Ocean and the Gulf of Mexico and a proposed determination that no marine areas meet the definition of critical habitat within the jurisdiction of the United States for the North Pacific Ocean DPS. The comment period for this action ended Monday, September 16, 2013. The comment period is being reopened to provide additional opportunity for public comment.

Specific areas proposed for designation include 36 occupied marine areas within the range of the Northwest Atlantic Ocean DPS. These areas contain one or a combination of nearshore reproductive habitat, winter area, breeding areas, and migratory corridors. We are also asking for comment on whether to include as critical habitat in the final rule some areas that contain foraging habitat and two large areas that contain Sargassum habitat. The U.S. Fish and Wildlife Service addressed terrestrial areas (nesting beaches) in a separate document (78 FR 18000; March 25, 2013).

We are soliciting comments from the public on all aspects of the proposal, including information on the economic, national security, and other relevant impacts. We will consider additional information received prior to making a final designation.

Public Hearings

We held hearings regarding this proposed rule in Wilmington, NC on September 9, 2013, and in Morehead City, NC on September 10, 2013. Due to budget constraints, we are unsure whether we can hold additional public hearings. However, we are considering requests for additional hearings. Requests for public hearings must be made in writing (see ADDRESSES) by November 14, 2013. If we are able to hold an additional public hearing, a notice detailing the specific hearing location and time will be published in the Federal Register at least 15 days before the hearing is to be held. Information on the specific hearing locations and times will also be posted on our Web site at: http://www.nmfs.noaa.gov/pr/species/turtles/loggerhead.htm.

Dated: September 25, 2013.
Angela Somma,
Chief, Endangered Species Division, Office of Protected Resources, National Marine Fisheries Service.

[FR Doc. 2013-23715 Filed 9-27-13; 8:45 am]

BILLING CODE 3510-22-P